DEPARTMENT OF DEFENSE

Office of the Secretary

[DoD-2008-OS-0005]

Privacy Act of 1974; System of Records

AGENCY: Office of the Secretary, DoD.

ACTION: Notice to Add a System of Records.

SUMMARY: The Defense Logistics Agency (DLA) is proposing to add a system of records to its inventory of record systems subject to the Privacy Act of 1974 (5 U.S.C. 552a), as amended.

DATES: The changes will be effective on March 3, 2008 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The proposed systems reports, as required by 5 U.S.C. 552a(r) of the Privacy Act of 1974, as amended, were submitted on January 23, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: January 24, 2008.
L.M. Bynum,
Alternate OSD Federal Register Liaison Officer, Department of Defense.

S800.20

System name:

Military Clothing Database.

System location:

Data regarding recruits is located at participating Recruit Induction/Training Centers and at Advantech, Inc., 2661 Riva Road, Suite 1000, Annapolis, MD 21401-7166. For a list of participating Recruit Induction/Training Centers contact the System manager below.

Data regarding active duty service members (Department of the Army, Department of the Air Force, U.S. Marine Corps, and select National Guard and Reserve units) is located at Fort Carson, CO, Central Issue Facility, Fort Bliss, TX, and Central Issue Facility and Advantech, Inc., 2661 Riva Road, Suite 1000, Annapolis, MD 21401-7166.

Categories of individuals covered by the system:

Recruits being inducted at the participating Recruit Induction/Training Centers (Department of the Army, the Department of the Air Force, the U.S. Marine Corps, and select National Guard and Reserve units). These include recruits with special clothing requirements. The data for individual recruits is captured on a “mark sense scan form”.

Active duty personnel in the Department of the Army, the Department of the Air Force, the U.S. Marine Corps, and select National Guard and Reserve units; Federal government civilian employees; DOD contractor personnel; and any other individuals deployed in support of military operations.

Categories of records in the system:

Individual's name, Social Security Number (SSN), gender, rank, MOS, duty station, roster ID, Platoon/Company assigned, records of receipts, sales, exchanges, replacements, and returns of individual clothing items, uniform sizes, body measurements, **body scan images, quantities of clothing items ordered by individuals and branch of military service cost center data.

**Body scan images (applies only to individuals processed at Fort Jackson, SC, Lackland Air Force Base, TX, and Fort Carson, CO) are converted into human readable body measurements which are then used to predict clothing sizes. The body scan images are not maintained in this system, but are provided to the Military Services which may use the data to perfect the sizes specified to Defense Logistics Agency (DLA) for procurement. Images are not used for any other purposes.

Authority for maintenance of the system:

10 U.S.C. 136, Under Secretary of Defense for Personnel and Readiness; DoD Directive 1338.5, Armed Forces Clothing Monetary Allowance Policy; and E.O. 9397 (SSN).

Purpose(s):

To establish a database for the purpose of managing military recruit clothing inventories; active duty Organizational Clothing and Individual Equipment inventories; to forecast future clothing needs; to reduce costs and lead times; to improve the quality of design and production of clothing; and to improve the efficiency of clothing distribution for the participating military services. Records are also used to record receipts, sales, exchanges, replacements, and returns of individual clothing items by the recruit.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Measurement and size information may be disclosed to garment manufacturers for the purpose of producing military clothing in the necessary sizes.

The DOD “Blanket Routine Uses” also apply to this system of records.

Policies and practices for storing, retrieving, accessing, retaining, and disposing of records in the system:

Storage:

Records are maintained on paper and electronic storage media.

Retrievability:

Individual's name and/or Social Security Number (SSN).

Safeguards:

Records are maintained in secure, limited access, or monitored areas. Database is monitored and access is password protected. Physical entry by unauthorized persons is restricted through the use of locks, guards, passwords, or other administrative procedures. Archived data is stored on discs, or magnetic tapes, which are kept in a locked or controlled access area. Access to personal information is limited to those individuals who require the records to perform their official assigned duties.

Retention and disposal:

Disposition pending. Until the National Archives and Records Administration has approved the retention and disposal of these records, treat them as permanent.

System manager(s) and address:

For recruit data—Product Executive, Dress Clothing, Defense Supply Center Philadelphia, DSCP-CRD, 700 Robbins Avenue, Philadelphia, PA 19111-5092.

For all others—Organizational Clothing and Individual Equipment Program Manager, Headquarters Defense Logistics Agency (J-339), Stop 6233, 8725 John J. Kingman Road, Fort Belvoir, VA 22060-6221.

Notification procedure:

Individuals seeking to determine whether information about themselves is contained in this system of records should address written inquiries to the Privacy Officer, Defense Supply Center Philadelphia, ATTN: DSCP-BPCA, 700 Robbins Avenue, Philadelphia, PA 19111-5092.

Written requests must contain the subject individual's full name, Social Security Number (SSN), and the Recruit Induction/Training Centers where inducted/trained.

Record access procedures:

Individuals seeking access to information about themselves contained in this system of records should address written inquiries to the Privacy Officer, Defense Supply Center Philadelphia, ATTN: DSCP-BPCA, 700 Robbins Avenue, Philadelphia, PA 19111-5092.

Written requests must contain the subject individual's full name, Social Security Number (SSN), and the Recruit Induction/Training Centers where inducted/trained.

Contesting record procedures:

The DLA rules for accessing records for contesting contents and appealing initial agency determinations are contained in 32 CFR part 323, or may be obtained from the Privacy Act Office, Headquarters, Defense Logistics Agency, ATTN: DGA, 8725 John J. Kingman Road, Stop 2533, Fort Belvoir, VA 22060-6221.

Record source categories:

Information is provided by the record subject and their affiliated Military Service.

Exemptions claimed for the system:

None.

[FR Doc. E8-1746 Filed 1-30-08; 8:45 am]

BILLING CODE 5001-06-P